DEPARTMENT OF THE INTERIOR

National Park Service

[NPS-WASO-NRNHL-DTS#-36283; PPWOCRADI0, PCU00RP14.R50000]

National Register of Historic Places; Notification of Pending Nominations and Related Actions

AGENCY: National Park Service, Interior.

ACTION: Notice.

SUMMARY: The National Park Service is soliciting electronic comments on the significance of properties nominated before July 22, 2023, for listing or related actions in the National Register of Historic Places.

DATES: Comments should be submitted electronically by August 18, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 22, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

INDIANA

Carroll County

North Street Viaduct, North St. overpass at US 421/39/Washington St., Delphi, SG100009295

Sycamore Row, Old IN 29 from Deer Creek south approx. 1,300 ft to IN 29, Deer Creek vicinity, SG100009297

Kosciusko County

Warner House-Warner Schoolhouse, Northwest corner of North and East Sts., North Webster, SG100009298

Marion County

Bluff Road Historic District (German Market Garden Farms of Perry Township (Marion County), Indiana, 1867-1972 MPS), Roughly on both sides of Bluff Rd. from Sprague St. to 4724 Bluff Rd., Indianapolis, MP100009292

Miami County

Godfroy's Addition Historic District, Roughly bounded by Ewing, 6th, Water, Canal, and Wabash Sts., and Clay St. between Main and 2nd Sts., Peru, SG100009293

Peru Westside Historic District, Roughly bounded by 6th, Miami, 3rd, and Lafayette Sts., Peru, SG100009296

Porter County

Hour Glass Cottage, 8 Lupine Ln., Ogden Dunes, SG100009294

MARYLAND

Baltimore Independent City

Park Heights Historic District, Roughly bounded by Northern Pkwy., Greenspring Ave., the Park Circle Historic District, and the Western MD rail line, Baltimore, SG100009276

Cecil County

Worsell Manor, 555 Worsell Manor Rd., Warwick, SG100009275

MASSACHUSETTS

Bristol County

Ashworth Brothers Mill, 89 Globe Mills Ave., Fall River, SG100009284

Essex County

Lynn Item Building, 38-54 Exchange St., Lynn, SG100009282

Middlesex County

John Winthrop Chambers, The, 78-80 Porter Rd., Cambridge, SG100009286

Suffolk County

Elm Hill Avenue-Georgia Street-Cheney Street Historic District, Elm Hill Ave, Cheney, Georgia, Hartwell, Homestead, Maple, Montana, Pleasanton, and Ruthven Sts., Boston, SG100009285

Worcester County

Worcester Young Women's Christian Association, 6 Chatham St., Worcester, SG100009287

MICHIGAN

Alpena County

Besser, Herman and Hattie (Ely), House, 403 South 2nd Ave., Alpena, SG100009278

NEW YORK

Bronx County

Casita Rincón Criollo (Puerto Rican Casitas of New York City MPS), 749-753 Brook Ave., Bronx, MP100009280

Columbia County

Fairview Manor, 20 NY 9H, Claverack, SG100009291

OHIO

Butler County

Shuler & Benninghofen Woolen Mill, 2350 Pleasant Ave., Hamilton, SG100009299

Hamilton County

Regal Theater, 1201 Linn St., Cincinnati, SG100009302

Montgomery County

Sears, Roebuck and Company, 5200 Salem Ave., Trotwood, SG100009303

PENNSYLVANIA

Philadelphia County

Fairelawn, 30 Pelham Rd., Philadelphia, SG100009301

TEXAS

El Paso County

Na Hlu Hli Tui (Old Village), Address Restricted, El Paso vicinity, MP100009300

A request for removal has been made for the following resources:

FLORIDA

Duval County

Catherine Street Fire Station, 14 Catherine St., Jacksonville, OT72000309

Woman's Club of Jacksonville, 861 Riverside Ave., Jacksonville, OT92001505

Buckman and Ulmer Building (Downtown Jacksonville MPS), 29-33 West Monroe St., Jacksonville, OT92001694

South Atlantic Investment Corporation Building (Downtown Jacksonville MPS), 35-39 West Monroe St., Jacksonville, OT92001699

St. Johns County

Hastings Community Center, 401 North Main St., Hastings, OT07000057

Volusia County

Anderson, John, Lodge (Historic Winter Residences of Ormond Beach, 1878-1925 MPS), 71 Orchard Ln., Ormond Beach, OT88001717

Nominations submitted by Federal Preservation Officers:

The State Historic Preservation Officer reviewed the following nominations and responded to the Federal Preservation Officer within 45 days of receipt of the nominations and supports listing the properties in the National Register of Historic Places.

MISSOURI

Greene County

Wilson's Creek National Battlefield (Additional Documentation), 6424 West Farm Rd. 182, Republic vicinity, AD66000113

UTAH

San Juan County

Natural Bridges National Monument Visitor Center (National Park Service Mission 66 Era Resources MPS), Natural Bridges Entrance Rd./UT 275, Natural Bridges NM, MP100009283

Authority: Section 60.13 of 36 CFR part 60.

Dated: July 26, 2023.
Sherry A. Frear,
Chief, National Register of Historic Places/National Historic Landmarks Program.

[FR Doc. 2023-16548 Filed 8-2-23; 8:45 am]

BILLING CODE 4312-52-P